DEPARTMENT OF HEALTH AND HUMAN SERVICES

National Institutes of Health

Request for Information on Research Opportunities Related to the National Institutes of Health Scientific Workshop on Violence and Related Health Outcomes in Sexual and Gender Minority Communities

AGENCY: National Institutes of Health, HHS.

ACTION: Notice.

SUMMARY: Through this Request for Information (RFI), the Sexual & Gender Minority Research Office (SGMRO) in the Division of Program Coordination, Planning, and Strategic Initiatives (DPCPSI), Office of the Director (OD), National Institutes of Health (NIH), invites feedback from stakeholders throughout the scientific research community, clinical practice communities, patient and family advocates, scientific or professional organizations, federal partners, internal NIH stakeholders, and other interested constituents on research opportunities related to the upcoming NIH Scientific Workshop on Violence and Related Health Outcomes in Sexual and Gender Minority (SGM) Communities. The overarching purpose of this workshop is to identify and prioritize key research opportunities to further our understanding of violence against SGM individuals.

DATES: The SGMRO's RFI is open for public comment for a period of 8 weeks. Comments must be received on or before COB (5:00 p.m. E.T.) January 29, 2021, to ensure consideration. After the public comment period has closed, the comments received by SGMRO will be considered in a timely manner and shared with invitees to the Scientific Workshop on Violence and Related Health Outcomes in SGM Communities.

ADDRESSES: Please see the supplementary information to view the draft domains and themes of focus for the Scientific Workshop on Violence and Related Health Outcomes in SGM Communities. It is strongly encouraged to submit comments by email to SGMRO@nih.gov. Please include “SGM Health and Violence Workshop” in the subject line.

FOR FURTHER INFORMATION CONTACT: Irene Avila, Ph.D., Assistant Director, Sexual & Gender Minority Research Office (SGMRO), 6555 Rock Spring Drive, Rm 2SE31J, Bethesda, MD 20817, avilai@mail.nih.gov, 301-594-9701.

SUPPLEMENTARY INFORMATION:

Background: “Sexual and gender minority” is an umbrella term that includes, but is not limited to, individuals who identify as lesbian, gay, bisexual, asexual, transgender, Two-Spirit, queer, and/or intersex. Individuals with same-sex or -gender attractions or behaviors and those with a difference in sex development are also included. These populations also encompass those who do not self-identify with one of these terms but whose sexual orientation, gender identity or expression, or reproductive development is characterized by non-binary constructs of sexual orientation, gender, and/or sex.

In accordance with Section 404N of the 21st Century Cures Act (Pub. L. 114-255), the Director of NIH shall encourage research on SGM populations. The Sexual and Gender Minority Research Office (SGMRO) coordinates sexual and gender minority (SGM)-related research and activities by working directly with NIH Institutes, Centers, and Offices. The Office was officially established in September 2015 within the DPCPSI in the NIH OD and has the following operational goals: (1) Advance rigorous research on the health of SGM populations in both the extramural and intramural research communities; (2) expand SGM health research by fostering partnerships and collaborations with a strategic array of internal and external stakeholders; (3) foster a highly skilled and diverse workforce in SGM health research; and (4) encourage data collection related to SGM populations in research and the biomedical research workforce. The Scientific Workshop on Violence and Related Health Outcomes in Sexual and Gender Minority Communities represents an important step in pursuing these goals specifically in the field of violence research.

Request for Comment on Research Opportunities: NIH will be holding a workshop to enhance our understanding of violence against SGM individuals and identify opportunities in violence-related research. The SGMRO invites input from stakeholders throughout the scientific research community, clinical practice communities, patient and family advocates, scientific or professional organizations, federal partners, internal NIH stakeholders, and other interested members of the public on research opportunities related to the four domains highlighted below. This input will serve as a valuable element in the development of the workshop and subsequent report out, and the community's time and consideration are highly appreciated.

This RFI serves as the first phase of the Scientific Workshop on Violence and Related Health Outcomes in Sexual and Gender Minority Communities. After the RFI has closed and comments from the public have been reviewed by workshop invitees, the second phase of the workshop will take place. During phase II, workshop invitees will discuss the current landscape of violence research, including an overview of specific subsets of violence research, relevant terminology, impacts on SGM populations, and institutional contexts. This phase will focus on four domains of violence research:

• Family of origin abuse across the lifespan, including child maltreatment (sexual, physical, psychological, and neglect) and elder abuse;

• Victimization by peers and friends, including youth and adult peer victimization (including bullying) and cyberbullying (among both youths and adults);

• Romantic and sexual partner violence, including teen dating violence, intimate partner violence, and sexual violence; and

• Community violence, including gender-based violence, hate crimes, workplace violence, neighborhood violence, and police violence.

In addition, relevant systemic and institutional barriers will be considered for each of these four areas.

In phase III, workgroups will be formed to identify and describe central themes and opportunities in violence research, taking into consideration feedback from the RFI. The workgroups will comprise expert participants from each of the four phase II sessions as well as other key partners and stakeholders. The four themes for workgroup discussion will be:

• Socio-demographics and epidemiology

• Risk factors and pathways

• Preventive strategies and interventions

• Structural interventions

NIH seeks comments and/or suggestions from all interested parties on key research opportunities in SGM health and violence.

Responses to this RFI are voluntary. Do not include any proprietary, classified, confidential, trade secret, or sensitive information in your response. The responses will be reviewed by NIH staff, and individual feedback will not be provided to any responder. The Government will use the information submitted in response to this RFI at its discretion. The Government reserves the right to use any submitted information on public NIH websites; in reports; in summaries of the state of the science; in any possible resultant solicitation(s), grant(s), or cooperative agreement(s); or in the development of future funding opportunity announcements.

This RFI is for information and planning purposes only and should not be construed as a solicitation for applications or proposals, or as an obligation in any way on the part of the United States Federal Government, NIH, or individual NIH Institutes, Centers, and Offices to provide support for any ideas identified in response to it. The Federal Government will not pay for the preparation of any information submitted or for the Government's use of such information. No basis for claims against the U.S. Government shall arise as a result of a response to this RFI or from the Government's use of such information. Additionally, the Government cannot guarantee the confidentiality of the information provided.

Dated: November 18, 2020.
Lawrence A. Tabak,
Principal Deputy Director, National Institutes of Health.

[FR Doc. 2020-26094 Filed 11-24-20; 8:45 am]

BILLING CODE 4140-01-P